DEPARTMENT OF DEFENSE

Office of the Secretary

[Docket ID DoD-2023-OS-0024]

Proposed Collection; Comment Request

AGENCY: Office of the Under Secretary of Defense for Personnel and Readiness (OUSD(P&R)), Department of Defense (DoD).

ACTION: 60-Day information collection notice.

SUMMARY: In compliance with the Paperwork Reduction Act of 1995, OUSD(P&R) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by May 22, 2023.

ADDRESSES: You may submit comments, identified by docket number and title, by any of the following methods:

Federal eRulemaking Portal: https://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number, and title for this Federal Register document. The general policy for comments and other submissions from members of the public is to make these submissions available for public viewing on the internet at http://www.regulations.gov as they are received without change, including any personal identifiers or contact information.

Any associated form(s) for this collection may be located within this same electronic docket and downloaded for review/testing. Follow the instructions at https://www.regulations.gov for submitting comments. Please submit comments on any given form identified by docket number, form number, and title.

FOR FURTHER INFORMATION CONTACT: To request more information on this proposed information collection or to obtain a copy of the proposal and associated collection instruments, please write to Military Community Advocacy, 4800 Mark Center Drive, Suite 3G15, Alexandria, VA 22350, Lisa Eaffaldano, (703) 474-8774.

SUPPLEMENTARY INFORMATION:

Title; Associated Form; and OMB Number: Independent Analysis and Recommendations on Domestic Abuse in the Armed Forces: Field Research; OMB Control Number: 0704-DAFR.

Needs and Uses: A comprehensive, independent analysis on the military-specific risk factors for domestic abuse (DA) and the best approaches across the coordinated community response system to mitigate those factors has never been conducted and is necessary to inform sustainable solutions to decrease incidents and prevent violence before it occurs. This project is required by the FY21 NDAA, Section 549C, and will support (a) the programmatic needs of the sponsoring office—the Family Advocacy Program within the Military Community Advocacy Directorate in Military Community and Family Policy, (b) Congressional requirements per Section 549C of the FY21 National Defense Authorization Act, (c) the current administration's priority to address gender-based violence, and (d) implementation of some recommendations contained in the U.S. Government Accountability Office Report 21-289 (May 2021). The overall project is wide ranging, from an epidemiological analysis to predict stages of military service where risk is highest for domestic violence, to an analysis of age-appropriate and positively focused prevention training for school-aged children, to assessing whether prevention would be enhanced by raising the disposition authority for domestic violence offenses.

Affected Public: Individuals and households.

Annual Burden Hours: 560.

Number of Respondents: 560.

Responses per Respondent: 1.

Annual Responses: 560.

Average Burden per Response: 1 hour.

Frequency: On occasion.

Dated: March 17, 2023.
Aaron T. Siegel,
Alternate OSD Federal Register Liaison Officer, Department of Defense.

[FR Doc. 2023-05884 Filed 3-21-23; 8:45 am]

BILLING CODE 5001-06-P